DEPARTMENT OF LABOR

Employment and Training Administration

[TA-W-42,188]

Laird Technologies, Delaware Water Gap, PA; Notice of Termination of Investigation

Pursuant to Section 221 of the Trade Act of 1974, an investigation was initiated on September 30, 2002, in response to a petition filed on behalf of workers at Laird Technologies, Delaware Water Gap, Pennsylvania.

The petitioners requested that the petition be withdrawn. Consequently, further investigation in this case would serve no purpose and the investigation has been terminated.

Signed in Washington, DC this 8th day of October, 2002.
Elliott S. Kushner,
Certifying Officer, Division of Trade Adjustment Assistance.

[FR Doc. 02-26757 Filed 10-21-02; 8:45 am]

BILLING CODE 4510-30-P